DEPARTMENT OF COMMERCE

International Trade Administration

[C-555-006]

Paper File Folders From the Kingdom of Cambodia: Postponement of Preliminary Determination in the Countervailing Duty Investigation

AGENCY: Enforcement and Compliance, International Trade Administration, Department of Commerce.

DATES: Applicable January 10, 2025.

FOR FURTHER INFORMATION CONTACT: Shane Subler or Brandon James, AD/CVD Operations, Office VIII, Enforcement and Compliance, International Trade Administration, U.S. Department of Commerce, 1401 Constitution Avenue NW, Washington, DC 20230; telephone: (202) 482-6241 and (202) 482-7472, respectively.

SUPPLEMENTARY INFORMATION:

Background

On November 12, 2024, the U.S. Department of Commerce (Commerce) initiated the countervailing duty (CVD) investigation of imports of paper file folders from the Kingdom of Cambodia (Cambodia).¹ Currently, the preliminary determination is due no later than January 16, 2025.

¹ See Paper File Folders from Cambodia: Initiation of Countervailing Duty Investigation, 89 FR 91331 (November 19, 2024).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the Coalition of Domestic Folder Manufacturers.

On December 19, 2024, the petitioner submitted a timely request that Commerce postpone the preliminary CVD determination.³ The petitioner stated that it requests postponement for Commerce to analyze initial responses and to issue supplemental questionnaires prior to making its preliminary CVD determination.⁴

³ See Petitioner's Letter, “Petitioner's Request For Postponement of the Preliminary Determination,” dated December 19, 2024.

⁴ Id.

In accordance with 19 CFR 351.205(e), the petitioner submitted its request for postponement of the preliminary determination in this investigation 25 days or more before the scheduled date of the preliminary determination and has stated the reasons for requesting a postponement of the preliminary determination, and Commerce finds no compelling reason to deny the request. Therefore, in accordance with section 703(c)(1)(A) of the Act, Commerce is postponing the deadline for the preliminary determination to no later than 130 days after the date on which the investigation was initiated, i.e., March 24, 2025.⁵ Pursuant to section 705(a)(1) of the Act and 19 CFR 351.210(b)(1), the deadline for the final determination of the investigation will continue to be 75 days after the date of the preliminary determination.

⁵ Postponing the preliminary determination to 130 days after the date of initiation would place the deadline on Saturday, March 22, 2025. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: January 3, 2025.
Abdelali Elouaradia,
Deputy Assistant Secretary for Enforcement and Compliance.

[FR Doc. 2025-00326 Filed 1-8-25; 8:45 am]

BILLING CODE 3510-DS-P